ENVIRONMENTAL PROTECTION AGENCY

40 CFR Parts 60, 61 and 63

[EPA-R09-OAR-2021-0962; FRL-9400-04-R9]

Delegation of New Source Performance Standards and National Emission Standards for Hazardous Air Pollutants for the States of Arizona and California

AGENCY: Environmental Protection Agency (EPA).

ACTION: Final rule.

SUMMARY: The Environmental Protection Agency (EPA) is taking final action to approve updates to the Code of Federal Regulations delegation tables to reflect the current delegation status of New Source Performance Standards and National Emission Standards for Hazardous Air Pollutants in Arizona and California.

DATES: This rule is effective on December 9, 2022.

ADDRESSES: The EPA has established a docket for this action under Docket ID No. EPA-R09-OAR-2021-0962. All documents in the docket are listed at https://www.regulations.gov. Although listed in the index, some information is not publicly available, e.g., Confidential Business Information (CBI) or other information whose disclosure is restricted by statute. Certain other material, such as copyrighted material, is not placed on the internet and will be publicly available only in hard copy form. Publicly available docket materials are available through https://www.regulations.gov, or please contact the person identified in the FOR FURTHER INFORMATION CONTACT section.

FOR FURTHER INFORMATION CONTACT: Jeffrey Buss, EPA Region IX, (415) 947-4152, buss.jeffrey@epa.gov.

SUPPLEMENTARY INFORMATION: Throughout this document, “we,” “us” and “our” refer to the EPA.

Table of Contents

I. Background

A. What is the purpose of this document?

B. Who is authorized to delegate these authorities?

C. What does delegation accomplish?

D. What authorities are not delegated by the EPA?

E. Does the EPA keep some authority?

II. Public Comments and EPA Responses

III. EPA Action

IV. Statutory and Executive Order Reviews

I. Background

A. What is the purpose of this document?

Through this document, the EPA is accomplishing the following objectives:

(1) Update the delegation tables in the Code of Federal Regulations, Title 40 (40 CFR), parts 60, 61 and 63 to provide an accurate listing of the delegated New Source Performance Standards (NSPS) and National Emission Standards for Hazardous Air Pollutants (NESHAP); and

(2) Clarify those authorities that the EPA retains and are not granted to state or local agencies as part of NSPS or NESHAP delegation.

Update of Tables in the CFR

This action will update the delegation tables in 40 CFR parts 60, 61 and 63, to allow easier access by the public to the status of delegations in various state or local jurisdictions. The updated delegation tables will include the delegations approved in response to recent requests, as well as those previously granted. The tables are shown at the end of this document.

Recent requests for delegation that have been incorporated into the updated 40 CFR parts 60, 61 and 63 tables are identified below. Each individual submittal identifies the specific NSPS and NESHAP for which delegation was requested. The requests have already been approved by letter and simply need to be included in the CFR tables.

Agency | Date of request | Date of approval by letter
Maricopa County Air Quality Department | December 9, 2020 and November 9, 2021 | April 8, 2021 and December 22, 2021.
Pima County Department of Environmental Quality | January 30, 2020 | April 21, 2020.
Antelope Valley Air Quality Management District | November 3, 2020 | January 14, 2022.
Monterey Bay Air Resources District | April 23, 2021 | January 14, 2022.
San Diego Air Pollution Control District | June 23, 2020 | April 8, 2021.

B. Who is authorized to delegate these authorities?

Sections 111(c)(1) and 112(l) of the Clean Air Act, as amended in 1990, authorizes the Administrator to delegate his or her authority for implementing and enforcing standards in 40 CFR parts 60, 61 and 63.

C. What does delegation accomplish?

Delegation grants a state or local agency the primary authority to implement and enforce federal standards. All required notifications and reports should be sent to the delegated state or local agency with a copy to EPA Region IX, as appropriate. Acceptance of delegation constitutes agreement by the state or local agency to follow 40 CFR parts 60, 61 and 63, and the EPA's test methods and continuous monitoring procedures.

D. What authorities are not delegated by the EPA?

In general, the EPA does not delegate to state or local agencies the authority to make decisions that are likely to be nationally significant or alter the stringency of the underlying standards. For a more detailed description of the authorities in 40 CFR parts 60 and 61 that are retained by the EPA, see 67 FR 20652 (April 26, 2002). For a more detailed description of the authorities in 40 CFR part 63 that are retained by the EPA, see 65 FR 55810 (September 14, 2000).

As additional assurance of national consistency, state and local agencies must send to EPA Region IX Enforcement Division's Air Section Manager a copy of any written decisions made pursuant to the following delegated authorities:

• applicability determinations that state a source is not subject to a rule or requirement;

• approvals or determination of construction, reconstruction, or modification;

• minor or intermediate site-specific changes to test methods or monitoring requirements; or

• site-specific changes or waivers of performance testing requirements.

For decisions that require the EPA's review and approval (for example, major changes to monitoring requirements), the EPA intends to make determinations in a timely manner.

In some cases, the standards themselves specify that specific provisions cannot be delegated. State and local agencies should review each individual standard for this information.

E. Does the EPA keep some authority?

The EPA retains independent authority to enforce the standards and regulations of 40 CFR parts 60, 61 and 63.

II. Public Comments and EPA Responses

On March 31, 2022, the EPA published in the Federal Register at 87 FR 18705 its NSPS and NESHAP updates in a direct final action because we believed the action was not controversial. In that direct final rule, we stated that if we received adverse comments, we would publish a timely withdrawal of the direct final rule and address the comments in a subsequent final rule based on a parallel proposed rule also published on March 31, 2022 at 87 FR 18760. We subsequently received two comments on that direct final rule and withdrew our direct final action on May 27, 2022, at 87 FR 32090.

Commenter #1

The commenter notes that California had the worst air quality levels in the United States in 2020, followed by Arizona. Additionally, Arizona and California are the top two states for having the largest Native American population. Arizona has over 332,000 Native Americans and is home to the country's largest tribe, The Navajo Nation, and California has over 321,000 Native Americans. Although air pollution affects all residents living in California and Arizona, health disparities are prominent among certain vulnerable populations such as Indigenous communities.

The commenter recommends that the delegation tables should be updated regularly, and comprehensive and detailed guidelines should be added as well to assure there is no gray area in following rules to prevent increased air pollution in California and Arizona. Finally, the commenter notes that Tribal governments can play a crucial role in decreasing air pollutants and work with entities at the federal and state levels.

EPA Response

We thank the commenter for the comment. While the commenter supports the proposed rule, we want to address some of the commenter's specific remarks.

Sections 111(c)(1) and 112(l) of the Clean Air Act, as amended in 1990, authorizes the Administrator to delegate his or her authority for implementing and enforcing standards in 40 CFR parts 60, 61 and 63. Tribes may apply to the EPA for such authority and assume regulatory and program management responsibilities in Indian country through the treatment in a similar manner as a tribe as a state process. In Arizona, for example, the Gila River Indian Community Department of Environmental Quality has delegated authority for the NESHAP within its jurisdiction.¹ In the absence of delegated authority, however, the EPA generally retains responsibility for enforcing the NSPS and NESHAP in Indian country, also known as direct implementation.

¹ See, 40 CFR part 63.99 (a)(3)(i).

The EPA's planning documents underscore the importance of direct implementation in fulfilling the Agency's mission in Indian country. As stated in the Fiscal Year 2022-2026 EPA Strategic Plan, “Ensuring EPA direct implementation of federal environmental programs in Indian country is in keeping with the federal trust responsibility. When the Agency directly implements federal environmental programs the agency also advances environmental justice for federally recognized Tribes. EPA will continue its long commitment to assisting Tribes in building the capacity to receive delegated programs. In those instances when Tribal governments are authorized to implement federal programs, EPA supports Tribal governments' inclusion of environmental justice principles, community engagement, and decision-making processes.” ²

² FY 2022-2026 EPA Strategic Plan, page 31. Available at https://www.epa.gov/system/files/documents/2022-03/fy-2022-2026-epa-strategic-plan.pdf.

Additionally, the EPA consults with federally recognized tribes under Executive Order 13175: Consultation and Coordination with Indian Tribal Governments and the EPA Policy on Consultation and Coordination with Indian Tribes.³ The EPA's direct implementation activities oftentimes meet the threshold consultation criteria of the Executive Order and/or Consultation Policy. As a result, in fulfilling its direct implementation responsibilities the EPA typically consults with tribes on actions it is taking that may affect tribes or tribal interests. Additional information on the Executive Order and Consultation Policy is available on the EPA's tribal consultation website.⁴

³ Available at https://www.epa.gov/sites/default/files/2013-08/documents/cons-and-coord-with-indian-tribes-policy.pdf.

⁴ Available at https://www.epa.gov/tribal/forms/consultation-and-coordination-tribes.

Commenter #2

On April 11, 2022, the EPA received an email message from the Yolo-Solano Air Quality Management District (AQMD) regarding its delegations for various subparts in 40 CFR parts 60, 61 and 63. With respect to Part 60, Yolo-Solano AQMD pointed out that the current delegations tables do not show delegations for any subparts to it despite the copies they furnished of older published versions showing various subparts were in fact delegated to Yolo-Solano AQMD. While the email message did not reference our action to update the NSPS and NESHAP delegation tables, we did receive it during the public comment period and intend to address it in this final action as a comment.

EPA Response

We agree with the comment that the existing delegation tables for 40 Part 60 are incorrect for Yolo-Solano AQMD. It appears that a publishing error occurred approximately in 2009, which resulted in the Tuolumne County Air Pollution Control District (APCD), Ventura County APCD and the Yolo-Solano AQMD delegations being deleted and/or altered from the table for 40 CFR part 60. With respect to parts 61 and 63, we found no error in the delegation tables. We are correcting the delegation status table for Part 60 for the three districts through this final rule.

Section 553 of the APA, 5 U.S.C. 553(b)(3)(B), provides that, when an agency for good cause finds that notice and public procedure are impracticable, unnecessary, or contrary to the public interest, the agency may issue a rule without providing notice and an opportunity for public comment. The EPA has determined that there is good cause for correcting the tables for 40 CFR part 60 for Tuolumne County APCD, Ventura County APCD and Yolo-Solano AQMD without prior proposal and opportunity for comment because our action merely conforms the delegation table with actions taken by the EPA years ago and that remain in force. Thus, notice and public procedures are unnecessary. The EPA finds that this constitutes good cause under 5 U.S.C. 553(b)(3)(B).

III. EPA Action

This document serves to notify the public that the EPA is updating the 40 CFR parts 60, 61 and 63 tables for Arizona and California to codify recent delegations of NSPS and NESHAP as authorized under Sections 111(c)(1) and 112(1)(l) of the Clean Air Act.

IV. Statutory and Executive Order Reviews

Under the Clean Air Act, the Administrator is required to approve delegation requests that comply with the provisions of the Act and applicable federal regulations. 42 U.S.C. Sections 7410(c) and 7412(l). Thus, in reviewing delegation submissions, the EPA's role is to approve state choices, provided that they meet the criteria of the Clean Air Act. Accordingly, this action merely approves state law as meeting federal requirements and does not impose additional requirements beyond those imposed by state law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001); and

• Is not subject to requirements of Section 12(d) of the National Technology Transfer and Advancement Act of 1995 (15 U.S.C. 272 note) because application of those requirements would be inconsistent with the Clean Air Act.

In addition, the air districts did not evaluate environmental justice considerations as part of their delegation requests. There is no information in the record, however, inconsistent with the stated goals of E.O. 12898 (59 FR 7629, February 16, 1994) of achieving environmental justice for people of color, low-income populations, and indigenous peoples.

Furthermore, the delegation submissions are not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Parts 60, 61 and 63

Environmental protection, Administrative practice and procedure, Air pollution control, Hazardous substances, Intergovernmental relations, Reporting and recordkeeping requirements.

Dated: October 27, 2022.
Elizabeth J. Adams,
Director, Air and Radiation Division, Region IX.

For the reasons set out in the preamble, title 40, chapter I, of the Code of Federal Regulations is amended as follows:

PART 60—STANDARDS OF PERFORMANCE FOR NEW STATIONARY SOURCES

1. The authority citation for part 60 continues to read as follows:

Authority: 42 U.S.C. 7401 et seq.

Subpart A—General Provisions

2. Section 60.4 is amended by:

a. Revising table 3 to paragraph (d)(1);

b. Designating the table in paragraph (d)(2)(i) as table 4 and revising newly designated table 4;

c. Designating the table in paragraph (d)(2)(v) as table 7 and revising newly designated table 7;

d. Designating the table in paragraph (d)(2)(vii) as table 9 and revising newly designated table 9;

e. Designating the table in paragraph (d)(2)(ix) as table 11 and revising newly designated table 11.

The revisions read as follows:

§ 60.4 Address.

(d) * * *

(1) * * *

Table 3 to Paragraph (d)(1)—Delegation Status for New Source Performance Standards for Arizona
| Subpart | Air pollution control agency: Arizona DEQ | Air pollution control agency: Maricopa County | Air pollution control agency: Pima County | Air pollution control agency: Pinal County
A | General Provisions | X | X | X | X
D | Fossil-Fuel Fired Steam Generators Constructed After August 17, 1971 | X | X | X | X
Da | Electric Utility Steam Generating Units Constructed After September 18, 1978 | X | X | X | X
Db | Industrial-Commercial-Institutional Steam Generating Units | X | X | X | X
Dc | Small Industrial-Commercial-Institutional Steam Generating Units | X | X | X | X
E | Incinerators | X | X | X | X
Ea | Municipal Waste Combustors Constructed After December 20, 1989 and On or Before September 20, 1994 | X | X | X | X
Eb | Large Municipal Waste Combustors Constructed After September 20, 1994 | X | X | X |
Ec | Hospital/Medical/Infectious Waste Incinerators for Which Construction is Commenced After June 20, 1996 | X | X | X |
F | Portland Cement Plants | X |  | X | X
G | Nitric Acid Plants | X | X | X | X
Ga | Nitric Acid Plants For Which Construction, Reconstruction or Modification Commenced After October 14, 2011 |  | X | X |
H | Sulfuric Acid Plant | X | X | X | X
I | Hot Mix Asphalt Facilities | X | X | X | X
J | Petroleum Refineries | X |  | X | X
Ja | Petroleum Refineries for Which Construction, Reconstruction, or Modification Commenced After May 14, 2007 |  |  | X |
K | Storage Vessels for Petroleum Liquids for Which Construction, Reconstruction, or Modification Commenced After June 11, 1973, and Prior to May 19, 1978 | X | X | X | X
Ka | Storage Vessels for Petroleum Liquids for Which Construction, Reconstruction, or Modification Commenced After May 18, 1978, and Prior to July 23, 1984 | X | X | X | X
Kb | Volatile Organic Liquid Storage Vessels (Including Petroleum Liquid Storage Vessels) for Which Construction, Reconstruction, or Modification Commenced After July 23, 1984 | X | X | X | X
L | Secondary Lead Smelters | X |  | X | X
M | Secondary Brass and Bronze Production Plants | X | X | X | X
N | Primary Emissions from Basic Oxygen Process Furnaces for Which Construction is Commenced After June 11, 1973 | X | X | X | X
Na | Secondary Emissions from Basic Oxygen Process Steelmaking Facilities for Which Construction is Commenced After January 20, 1983 | X | X | X | X
O | Sewage Treatment Plants | X | X | X | X
P | Primary Copper Smelters | X |  | X | X
Q | Primary Zinc Smelters | X |  | X | X
R | Primary Lead Smelters | X |  | X | X
S | Primary Aluminum Reduction Plants | X | X | X | X
T | Phosphate Fertilizer Industry: Wet Process Phosphoric Acid Plants | X | X | X | X
U | Phosphate Fertilizer Industry: Superphosphoric Acid Plants | X | X | X | X
V | Phosphate Fertilizer Industry: Diammonium Phosphate Plants | X | X | X | X
W | Phosphate Fertilizer Industry: Triple Superphosphate Plants | X | X | X | X
X | Phosphate Fertilizer Industry: Granular Triple Superphosphate Storage Facilities | X | X | X | X
Y | Coal Preparation and Processing Plants | X | X | X | X
Z | Ferroalloy Production Facilities | X | X | X | X
AA | Steel Plants: Electric Arc Furnaces Constructed After October 21, 1974 and On or Before August 17, 1983 | X | X | X | X
AAa | Steel Plants: Electric Arc Furnaces and Argon-Oxygen Decarburization Vessels Constructed After August 7, 1983 | X | X | X | X
BB | Kraft Pulp Mills | X | X | X | X
BBa | Kraft Pulp Mill Sources for which Construction, Reconstruction or Modification Commenced after May 23, 2013 |  | X | X |
CC | Glass Manufacturing Plants | X | X | X | X
DD | Grain Elevators | X | X | X | X
EE | Surface Coating of Metal Furniture | X | X | X | X
FF | (Reserved) |  |  |  |
GG | Stationary Gas Turbines | X | X | X | X
HH | Lime Manufacturing Plants | X | X | X | X
KK | Lead-Acid Battery Manufacturing Plants | X | X | X | X
LL | Metallic Mineral Processing Plants | X | X | X | X
MM | Automobile and Light Duty Trucks Surface Coating Operations | X | X | X | X
NN | Phosphate Rock Plants | X | X | X | X
PP | Ammonium Sulfate Manufacture | X | X | X | X
QQ | Graphic Arts Industry: Publication Rotogravure Printing | X | X | X | X
RR | Pressure Sensitive Tape and Label Surface Coating Operations | X | X | X | X
SS | Industrial Surface Coating: Large Appliances | X | X | X | X
TT | Metal Coil Surface Coating | X | X | X | X
UU | Asphalt Processing and Asphalt Roofing Manufacture | X | X | X | X
VV | Equipment Leaks of VOC in the Synthetic Organic Industry Chemicals Manufacturing | X | X | X | X
VVa | Equipment Leaks of VOC in the Synthetic Organic Industry for Which Construction, Reconstruction, or Chemicals Manufacturing Modification Commenced After November 7, 2006 | X | X | X |
WW | Beverage Can Surface Coating Industry | X | X | X | X
XX | Bulk Gasoline Terminals | X | X | X | X
AAA | New Residential Wood Heaters | X | X | X | X
BBB | Rubber Tire Manufacturing Industry | X | X | X | X
CCC | (Reserved) |  |  |  |
DDD | Volatile Organic Compounds (VOC) Emissions from the Polymer Manufacturing Industry | X | X | X | X
EEE | (Reserved) |  |  |  |
FFF | Flexible Vinyl and Urethane Coating and Printing | X | X | X | X
GGG | Equipment Leaks of VOC in Petroleum Refineries | X |  | X | X
GGGa | Equipment Leaks of VOC in Petroleum Refineries for Which Construction, Reconstruction, or Modification Commenced After November 7, 2006 | X |  | X |
HHH | Synthetic Fiber Production Facilities | X | X | X | X
III | Volatile Organic Compound (VOC) Emissions From the Synthetic Organic Chemical Manufacturing Industry (SOCMI) Air Oxidation Unit Processes | X | X | X | X
JJJ | Petroleum Dry Cleaners | X | X | X | X
KKK | Equipment Leaks of VOC From Onshore Natural Gas Processing Plants | X | X | X | X
LLL | Onshore Natural Gas Processing: SO2 Emissions | X | X | X | X
MMM | (Reserved) |  |  |  |
NNN | Volatile Organic Compound (VOC) Emissions From Synthetic Organic Chemical Manufacturing Industry (SOCMI) Distillation Operations | X | X | X | X
OOO | Nonmetallic Mineral Processing Plants | X | X | X | X
PPP | Wool Fiberglass Insulation Manufacturing Plants | X | X | X | X
QQQ | VOC Emissions From Petroleum Refinery Wastewater Systems | X |  | X | X
RRR | Volatile Organic Compound Emissions from Synthetic Organic Chemical Manufacturing Industry (SOCMI) Reactor Processes | X | X | X |
SSS | Magnetic Tape Coating Facilities | X | X | X | X
TTT | Industrial Surface Coating: Surface Coating of Plastic Parts for Business Machines | X | X | X | X
UUU | Calciners and Dryers in Mineral Industries | X | X | X |
VVV | Polymeric Coating of Supporting Substrates Facilities | X | X | X | X
WWW | Municipal Solid Waste Landfills | X | X | X |
XXX | Municipal Solid Waste Landfills that Commenced Construction, Reconstruction, or Modification After July 17, 2014 |  | X | X |
AAAA | Small Municipal Waste Combustion Units for Which Construction is Commenced After August 30, 1999 or for Which Modification or Reconstruction is Commended After June 6, 2001 | X | X | X |
CCCC | Commercial and Industrial Solid Waste Incineration Units for Which Construction Is Commenced After November 30, 1999 or for Which Modification or Reconstruction Is Commenced on or After June 1, 2001 | X | X | X |
EEEE | Other Solid Waste Incineration Units for Which Construction is Commenced After December 9, 2004, or for Which Modification or Reconstruction is Commenced on or After June 16, 2006 | X | X | X |
GGGG | (Reserved) |  |  |  |
HHHH | (Reserved) |  |  |  |
IIII | Stationary Compression Ignition Internal Combustion Engines | X | X | X |
JJJJ | Stationary Spark Ignition Internal Combustion Engines |  | X | X |
KKKK | Stationary Combustion Turbines | X | X | X |
LLLL | New Sewage Sludge Incineration Units |  |  | X |
MMMM | Emissions Guidelines and Compliance Times for Existing Sewage Sludge Incineration Units | X |  |  |
OOOO | Crude Oil and Natural Gas Production, Transmission, and Distribution |  | X | X |
OOOOa | Standards of Performance for Crude Oil and Natural Gas Facilities for Which Construction, Modification or Reconstruction Commenced After September 18, 2015 |  | X | X |
QQQQ | Standards of Performance for New Residential Hydronic Heaters and Forced-Air Furnaces |  | X | X |
TTTT | Standards of Performance for Greenhouse Gas Emissions for Electric Generating Units |  | X | X |

(2) * * *

(i) * * *

Table 4 to Paragraph (d)(2)(i)—Delegation Status for New Source Performance Standards for Amador County APCD, Antelope Valley AQMD, Bay Area AQMD, and Butte County AQMD
| Subpart | Air pollution control agency: Amador County APCD | Air pollution control agency: Antelope Valley AQMD | Air pollution control agency: Bay Area AQMD | Air pollution control agency: Butte County AQMD
A | General Provisions |  | X |  |
Ba | Adoption and Submittal of State Plans for Designated Facilities |  | X |  |
Cf | Emission Guidelines and Compliance Times for Municipal Solid Waste Landfills |  | X |  |
D | Fossil-Fuel Fired Steam Generators Constructed After August 17, 1971 |  | X | X |
Da | Electric Utility Steam Generating Units Constructed After September 18, 1978 |  | X | X |
Db | Industrial-Commercial-Institutional Steam Generating Units |  | X | X |
Dc | Small Industrial-Commercial-Institutional Steam Generating Units |  | X | X |
E | Incinerators |  | X | X |
Ea | Municipal Waste Combustors Constructed After December 20, 1989 and On or Before September 20, 1994 |  | X | X |
Eb | Large Municipal Waste Combustors Constructed After September 20, 1994 |  | X |  |
Ec | Hospital/Medical/Infectious Waste Incinerators for Which Construction is Commenced After June 20, 1996 |  | X |  |
F | Portland Cement Plants |  | X | X |
G | Nitric Acid Plants |  | X | X |
Ga | Nitric Acid Plants For Which Construction, Reconstruction or Modification Commenced After October 14, 2011 |  | X |  |
H | Sulfuric Acid Plant |  | X | X |
I | Hot Mix Asphalt Facilities |  | X | X |
J | Petroleum Refineries |  | X | X |
Ja | Petroleum Refineries for Which Construction, Reconstruction, or Modification Commenced After May 14, 2007 |  | X |  |
K | Storage Vessels for Petroleum Liquids for Which Construction, Reconstruction, or Modification Commenced After June 11, 1973, and Prior to May 19, 1978 |  | X | X |
Ka | Storage Vessels for Petroleum Liquids for Which Construction, Reconstruction, or Modification Commenced After May 18, 1978, and Prior to July 23, 1984 |  | X | X |
Kb | Volatile Organic Liquid Storage Vessels (Including Petroleum Liquid Storage Vessels) for Which Construction, Reconstruction, or Modification Commenced After July 23, 1984 |  | X | X |
L | Secondary Lead Smelters |  | X | X |
M | Secondary Brass and Bronze Production Plants |  | X | X |
N | Primary Emissions from Basic Oxygen Process Furnaces for Which Construction is Commenced After June 11, 1973 |  | X | X |
Na | Secondary Emissions from Basic Oxygen Process Steelmaking Facilities for Which Construction is Commenced After January 20, 1983 |  | X | X |
O | Sewage Treatment Plants |  | X | X |
P | Primary Copper Smelters |  | X | X |
Q | Primary Zinc Smelters |  | X | X |
R | Primary Lead Smelters |  | X | X |
S | Primary Aluminum Reduction Plants |  | X | X |
T | Phosphate Fertilizer Industry: Wet Process Phosphoric Acid Plants |  | X |  |
U | Phosphate Fertilizer Industry: Superphosphoric Acid Plants |  | X | X |
V | Phosphate Fertilizer Industry: Diammonium Phosphate Plants |  | X | X |
W | Phosphate Fertilizer Industry: Triple Superphosphate Plants |  | X | X |
X | Phosphate Fertilizer Industry: Granular Triple Superphosphate Storage Facilities |  | X | X |
Y | Coal Preparation and Processing Plants |  | X | X |
Z | Ferroalloy Production Facilities |  | X | X |
AA | Steel Plants: Electric Arc Furnaces Constructed After October 21, 1974 and On or Before August 17, 1983 |  | X | X |
AAa | Steel Plants: Electric Arc Furnaces and Argon-Oxygen Decarburization Vessels Constructed After August 7, 1983 |  | X | X |
BB | Kraft Pulp Mills |  | X | X |
BBa | Kraft Pulp Mill Sources for which Construction, Reconstruction or Modification Commenced after May 23, 2013 |  | X |  |
CC | Glass Manufacturing Plants |  | X | X |
DD | Grain Elevators |  | X | X |
EE | Surface Coating of Metal Furniture |  | X | X |
FF | (Reserved) |  |  |  |
GG | Stationary Gas Turbines |  | X | X |
HH | Lime Manufacturing Plants |  | X | X |
KK | Lead-Acid Battery Manufacturing Plants |  | X | X |
LL | Metallic Mineral Processing Plants |  | X | X |
MM | Automobile and Light Duty Trucks Surface Coating Operations |  | X | X |
NN | Phosphate Rock Plants |  | X | X |
PP | Ammonium Sulfate Manufacture |  | X | X |
QQ | Graphic Arts Industry: Publication Rotogravure Printing |  | X | X |
RR | Pressure Sensitive Tape and Label Surface Coating Operations |  | X | X |
SS | Industrial Surface Coating: Large Appliances |  | X | X |
TT | Metal Coil Surface Coating |  | X | X |
UU | Asphalt Processing and Asphalt Roofing Manufacture |  | X | X |
VV | Equipment Leaks of VOC in the Synthetic Organic Industry Chemicals Manufacturing |  | X | X |
VVa | Equipment Leaks of VOC in the Synthetic Organic Industry for Which Construction, Reconstruction, or Chemicals Manufacturing Modification Commenced After November 7, 2006 |  | X |  |
WW | Beverage Can Surface Coating Industry |  | X | X |
XX | Bulk Gasoline Terminals |  |  |  |
AAA | New Residential Wood Heaters |  | X | X |
BBB | Rubber Tire Manufacturing Industry |  | X | X |
CCC | (Reserved) |  |  |  |
DDD | Volatile Organic Compounds (VOC) Emissions from the Polymer Manufacturing Industry |  | X | X |
EEE | (Reserved) |  |  |  |
FFF | Flexible Vinyl and Urethane Coating and Printing |  | X | X |
GGG | Equipment Leaks of VOC in Petroleum Refineries |  | X | X |
GGGa | Equipment Leaks of VOC in Petroleum Refineries for Which Construction, Reconstruction, or Modification Commenced After November 7, 2006 |  | X |  |
HHH | Synthetic Fiber Production Facilities |  | X | X |
III | Volatile Organic Compound (VOC) Emissions From the Synthetic Organic Chemical Manufacturing Industry (SOCMI) Air Oxidation Unit Processes |  | X |  |
JJJ | Petroleum Dry Cleaners |  | X | X |
KKK | Equipment Leaks of VOC From Onshore Natural Gas Processing Plants |  | X | X |
LLL | Onshore Natural Gas Processing: SO2 Emissions |  | X |  |
MMM | (Reserved) |  |  |  |
NNN | Volatile Organic Compound (VOC) Emissions From Synthetic Organic Chemical Manufacturing Industry (SOCMI) Distillation Operations |  | X | X |
OOO | Nonmetallic Mineral Processing Plants |  | X | X |
PPP | Wool Fiberglass Insulation Manufacturing Plants |  | X | X |
QQQ | VOC Emissions From Petroleum Refinery Wastewater Systems |  | X |  |
RRR | Volatile Organic Compound Emissions from Synthetic Organic Chemical Manufacturing Industry (SOCMI) Reactor Processes |  | X |  |
SSS | Magnetic Tape Coating Facilities |  | X | X |
TTT | Industrial Surface Coating: Surface Coating of Plastic Parts for Business Machines |  | X | X |
UUU | Calciners and Dryers in Mineral Industries |  | X | X |
VVV | Polymeric Coating of Supporting Substrates Facilities |  | X | X |
WWW | Municipal Solid Waste Landfills |  | X |  |
XXX | Municipal Solid Waste Landfills that Commenced Construction, Reconstruction, or Modification After July 17, 2014 |  | X |  |
AAAA | Small Municipal Waste Combustion Units for Which Construction is Commenced After August 30, 1999 or for Which Modification or Reconstruction is Commended After June 6, 2001 |  | X |  |
CCCC | Commercial and Industrial Solid Waste Incineration Units for Which Construction Is Commenced After November 30, 1999 or for Which Modification or Reconstruction Is Commenced on or After June 1, 2001 |  | X |  |
DDDD | Emissions Guidelines and Compliance Times for Commercial and Industrial Solid Waste Incineration Units |  | X |  |
EEEE | Other Solid Waste Incineration Units for Which Construction is Commenced After December 9, 2004, or for Which Modification or Reconstruction is Commenced on or After June 16, 2006 |  | X |  |
GGGG | (Reserved) |  |  |  |
HHHH | (Reserved) |  |  |  |
IIII | Stationary Compression Ignition Internal Combustion Engines |  | X |  |
JJJJ | Stationary Spark Ignition Internal Combustion Engines |  | X |  |
KKKK | Stationary Combustion Turbines |  | X |  |
LLLL | New Sewage Sludge Incineration Units |  | X |  |
MMMM | Emissions Guidelines and Compliance Times for Existing Sewage Sludge Incineration Units |  | X |  |
OOOO | Crude Oil and Natural Gas Production, Transmission, and Distribution |  | X |  |
OOOOa | Standards of Performance for Crude Oil and Natural Gas Facilities for Which Construction, Modification or Reconstruction Commenced After September 18, 2015 |  | X |  |
TTTT | Standards of Performance for Greenhouse Gas Emissions for Electric Generating Units |  | X |  |
UUUUa | Emission Guidelines for Greenhouse Gas Emissions From Existing Electric Utility Generating Units |  | X |  |

* * * * *

(v) * * *

Table 7 to Paragraph (d)(2)(v)—Delegation Status for New Source Performance Standards for Modoc County APCD, Mojave Desert AQMD, Monterey Bay Unified APCD, and North Coast Unified AQMD
| Subpart | Air pollution control agency: Modoc County APCD | Air pollution control agency: Mojave Desert AQMD | Air pollution control agency: Monterey Bay Unified APCD | Air pollution control agency: North Coast Unified AQMD
A | General Provisions | X | X | X | X
D | Fossil-Fuel Fired Steam Generators Constructed After August 17, 1971 | X | X | X | X
Da | Electric Utility Steam Generating Units Constructed After September 18, 1978 | X | X | X | X
Db | Industrial-Commercial-Institutional Steam Generating Units | X | X | X | X
Dc | Small Industrial-Commercial-Institutional Steam Generating Units |  | X | X |
E | Incinerators | X | X | X | X
Ea | Municipal Waste Combustors Constructed After December 20, 1989 and On or Before September 20, 1994 |  | X |  |
Eb | Large Municipal Waste Combustors Constructed After September 20, 1994 |  | X |  |
Ec | Hospital/Medical/Infectious Waste Incinerators for Which Construction is Commenced After June 20, 1996 |  | X |  |
F | Portland Cement Plants | X | X | X | X
G | Nitric Acid Plants | X | X | X | X
Ga | Nitric Acid Plants For Which Construction, Reconstruction or Modification Commenced After October 14, 2011 |  |  |  |
H | Sulfuric Acid Plant | X | X | X | X
I | Hot Mix Asphalt Facilities | X | X | X | X
J | Petroleum Refineries | X | X | X | X
Ja | Petroleum Refineries for Which Construction, Reconstruction, or Modification Commenced After May 14, 2007 |  | X |  |
K | Storage Vessels for Petroleum Liquids for Which Construction, Reconstruction, or Modification Commenced After June 11, 1973, and Prior to May 19, 1978 | X | X | X | X
Ka | Storage Vessels for Petroleum Liquids for Which Construction, Reconstruction, or Modification Commenced After May 18, 1978, and Prior to July 23, 1984 | X | X | X | X
Kb | Volatile Organic Liquid Storage Vessels (Including Petroleum Liquid Storage Vessels) for Which Construction, Reconstruction, or Modification Commenced After July 23, 1984 | X | X | X | X
L | Secondary Lead Smelters | X | X | X | X
M | Secondary Brass and Bronze Production Plants | X | X | X | X
N | Primary Emissions from Basic Oxygen Process Furnaces for Which Construction is Commenced After June 11, 1973 | X | X | X | X
Na | Secondary Emissions from Basic Oxygen Process Steelmaking Facilities for Which Construction is Commenced After January 20, 1983 | X | X | X | X
O | Sewage Treatment Plants | X | X | X | X
P | Primary Copper Smelters | X | X | X | X
Q | Primary Zinc Smelters | X | X | X | X
R | Primary Lead Smelters | X | X | X | X
S | Primary Aluminum Reduction Plants | X | X | X | X
T | Phosphate Fertilizer Industry: Wet Process Phosphoric Acid Plants | X | X | X | X
U | Phosphate Fertilizer Industry: Superphosphoric Acid Plants | X | X | X | X
V | Phosphate Fertilizer Industry: Diammonium Phosphate Plants | X | X | X | X
W | Phosphate Fertilizer Industry: Triple Superphosphate Plants | X | X | X | X
X | Phosphate Fertilizer Industry: Granular Triple Superphosphate Storage Facilities | X | X | X | X
Y | Coal Preparation and Processing Plants | X | X | X | X
Z | Ferroalloy Production Facilities | X | X | X | X
AA | Steel Plants: Electric Arc Furnaces Constructed After October 21, 1974 and On or Before August 17, 1983 | X | X | X | X
AAa | Steel Plants: Electric Arc Furnaces and Argon-Oxygen Decarburization Vessels Constructed After August 7, 1983 | X | X | X | X
BB | Kraft Pulp Mills | X | X | X | X
CC | Glass Manufacturing Plants | X | X | X | X
DD | Grain Elevators | X | X | X | X
EE | Surface Coating of Metal Furniture | X | X | X | X
FF | (Reserved) |  |  |  |
GG | Stationary Gas Turbines | X | X | X | X
HH | Lime Manufacturing Plants | X | X | X | X
KK | Lead-Acid Battery Manufacturing Plants | X | X | X | X
LL | Metallic Mineral Processing Plants | X | X | X | X
MM | Automobile and Light Duty Trucks Surface Coating Operations | X | X | X | X
NN | Phosphate Rock Plants | X | X | X | X
PP | Ammonium Sulfate Manufacture | X | X | X | X
QQ | Graphic Arts Industry: Publication Rotogravure Printing | X | X | X | X
RR | Pressure Sensitive Tape and Label Surface Coating Operations | X | X | X | X
SS | Industrial Surface Coating: Large Appliances | X | X | X | X
TT | Metal Coil Surface Coating | X | X | X | X
UU | Asphalt Processing and Asphalt Roofing Manufacture | X | X | X | X
VV | Equipment Leaks of VOC in the Synthetic Organic Industry Chemicals Manufacturing | X | X | X | X
VVa | Equipment Leaks of VOC in the Synthetic Organic Industry for Which Construction, Reconstruction, or Chemicals Manufacturing Modification Commenced After November 7, 2006 |  | X |  |
WW | Beverage Can Surface Coating Industry | X | X | X | X
XX | Bulk Gasoline Terminals |  |  |  |
AAA | New Residential Wood Heaters | X | X | X | X
BBB | Rubber Tire Manufacturing Industry | X | X | X | X
CCC | (Reserved) |  |  |  |
DDD | Volatile Organic Compounds (VOC) Emissions from the Polymer Manufacturing Industry | X | X | X |
EEE | (Reserved) |  |  |  |
FFF | Flexible Vinyl and Urethane Coating and Printing | X | X | X | X
GGG | Equipment Leaks of VOC in Petroleum Refineries | X | X | X | X
GGGa | Equipment Leaks of VOC in Petroleum Refineries for Which Construction, Reconstruction, or Modification Commenced After November 7, 2006 |  | X |  |
HHH | Synthetic Fiber Production Facilities | X | X | X | X
III | Volatile Organic Compound (VOC) Emissions From the Synthetic Organic Chemical Manufacturing Industry (SOCMI) Air Oxidation Unit Processes |  | X |  |
JJJ | Petroleum Dry Cleaners | X | X | X | X
KKK | Equipment Leaks of VOC From Onshore Natural Gas Processing Plants | X | X | X | X
LLL | Onshore Natural Gas Processing: SO2 Emissions | X | X | X | X
MMM | (Reserved) |  |  |  |
NNN | Volatile Organic Compound (VOC) Emissions From Synthetic Organic Chemical Manufacturing Industry (SOCMI) Distillation Operations | X | X | X |
OOO | Nonmetallic Mineral Processing Plants | X | X | X | X
PPP | Wool Fiberglass Insulation Manufacturing Plants | X | X | X | X
QQQ | VOC Emissions From Petroleum Refinery Wastewater Systems | X | X | X | X
RRR | Volatile Organic Compound Emissions from Synthetic Organic Chemical Manufacturing Industry (SOCMI) Reactor Processes |  | X |  |
SSS | Magnetic Tape Coating Facilities | X | X | X | X
TTT | Industrial Surface Coating: Surface Coating of Plastic Parts for Business Machines | X | X | X | X
UUU | Calciners and Dryers in Mineral Industries |  | X | X |
VVV | Polymeric Coating of Supporting Substrates Facilities |  | X | X | X
WWW | Municipal Solid Waste Landfills |  | X | X |
AAAA | Small Municipal Waste Combustion Units for Which Construction is Commenced After August 30, 1999 or for Which Modification or Reconstruction is Commended After June 6, 2001 |  | X |  |
CCCC | Commercial and Industrial Solid Waste Incineration Units for Which Construction Is Commenced After November 30, 1999 or for Which Modification or Reconstruction Is Commenced on or After June 1, 2001 |  | X |  |
EEEE | Other Solid Waste Incineration Units for Which Construction is Commenced After December 9, 2004, or for Which Modification or Reconstruction is Commenced on or After June 16, 2006 |  | X |  |
GGGG | (Reserved) |  |  |  |
HHHH | (Reserved) |  |  |  |
IIII | Stationary Compression Ignition Internal Combustion Engines |  | X | X |
JJJJ | Stationary Spark Ignition Internal Combustion Engines |  | X | X |
KKKK | Stationary Combustion Turbines |  | X | X |
LLLL | New Sewage Sludge Incineration Units |  |  |  |
OOOO | Crude Oil and Natural Gas Production, Transmission, and Distribution |  |  |  |

* * * * *

(vii) * * *

Table 9 to Paragraph (d)(2)(vii)—Delegation Status for New Source Performance Standards for San Diego County APCD, San Joaquin Valley Unified APCD, San Luis Obispo County APCD, and Santa Barbara County APCD
| Subpart | Air pollution control agency: San Diego County APCD | Air pollution control agency: San Joaquin Valley Unified APCD | Air pollution control agency: San Luis Obispo County APCD | Air pollution control agency: Santa Barbara County APCD
A | General Provisions | X | X | X | X
D | Fossil-Fuel Fired Steam Generators Constructed After August 17, 1971 | X | X | X | X
Da | Electric Utility Steam Generating Units Constructed After September 18, 1978 | X | X | X | X
Db | Industrial-Commercial-Institutional Steam Generating Units | X | X | X | X
Dc | Small Industrial-Commercial-Institutional Steam Generating Units | X | X | X | X
E | Incinerators | X | X | X | X
Ea | Municipal Waste Combustors Constructed After December 20, 1989 and On or Before September 20, 1994 | X | X | X |
Eb | Large Municipal Waste Combustors Constructed After September 20, 1994 | X | X |  | X
Ec | Hospital/Medical/Infectious Waste Incinerators for Which Construction is Commenced After June 20, 1996 | X |  |  | X
F | Portland Cement Plants | X | X | X |
G | Nitric Acid Plants | X | X | X |
Ga | Nitric Acid Plants For Which Construction, Reconstruction or Modification Commenced After October 14, 2011 |  |  |  |
H | Sulfuric Acid Plant | X | X | X |
I | Hot Mix Asphalt Facilities | X | X | X | X
J | Petroleum Refineries | X | X | X | X
Ja | Petroleum Refineries for Which Construction, Reconstruction, or Modification Commenced After May 14, 2007 |  |  |  | X
K | Storage Vessels for Petroleum Liquids for Which Construction, Reconstruction, or Modification Commenced After June 11, 1973, and Prior to May 19, 1978 | X | X | X | X
Ka | Storage Vessels for Petroleum Liquids for Which Construction, Reconstruction, or Modification Commenced After May 18, 1978, and Prior to July 23, 1984 | X | X | X | X
Kb | Volatile Organic Liquid Storage Vessels (Including Petroleum Liquid Storage Vessels) for Which Construction, Reconstruction, or Modification Commenced After July 23, 1984 | X | X | X | X
L | Secondary Lead Smelters | X | X | X | X
M | Secondary Brass and Bronze Production Plants | X | X | X | X
N | Primary Emissions from Basic Oxygen Process Furnaces for Which Construction is Commenced After June 11, 1973 | X | X | X |
Na | Secondary Emissions from Basic Oxygen Process Steelmaking Facilities for Which Construction is Commenced After January 20, 1983 | X | X | X |
O | Sewage Treatment Plants | X | X | X | X
P | Primary Copper Smelters | X | X | X |
Q | Primary Zinc Smelters | X | X | X |
R | Primary Lead Smelters | X | X | X |
S | Primary Aluminum Reduction Plants | X | X | X |
T | Phosphate Fertilizer Industry: Wet Process Phosphoric Acid Plants | X | X | X |
U | Phosphate Fertilizer Industry: Superphosphoric Acid Plants | X | X | X |
V | Phosphate Fertilizer Industry: Diammonium Phosphate Plants | X | X | X |
W | Phosphate Fertilizer Industry: Triple Superphosphate Plants | X | X | X |
X | Phosphate Fertilizer Industry: Granular Triple Superphosphate Storage Facilities | X | X | X |
Y | Coal Preparation and Processing Plants | X | X | X |
Z | Ferroalloy Production Facilities | X | X | X |
AA | Steel Plants: Electric Arc Furnaces Constructed After October 21, 1974 and On or Before August 17, 1983 | X | X | X |
AAa | Steel Plants: Electric Arc Furnaces and Argon-Oxygen Decarburization Vessels Constructed After August 7, 1983 | X | X | X |
BB | Kraft Pulp Mills | X | X | X |
CC | Glass Manufacturing Plants | X | X | X | X
DD | Grain Elevators | X | X | X | X
EE | Surface Coating of Metal Furniture | X | X | X |
FF | (Reserved) |  |  |  |
GG | Stationary Gas Turbines | X | X | X | X
HH | Lime Manufacturing Plants | X | X | X |
KK | Lead-Acid Battery Manufacturing Plants | X | X | X |
LL | Metallic Mineral Processing Plants | X | X | X |
MM | Automobile and Light Duty Trucks Surface Coating Operations | X | X | X |
NN | Phosphate Rock Plants | X | X | X |
PP | Ammonium Sulfate Manufacture | X | X | X |
QQ | Graphic Arts Industry: Publication Rotogravure Printing | X | X | X |
RR | Pressure Sensitive Tape and Label Surface Coating Operations | X | X | X |
SS | Industrial Surface Coating: Large Appliances | X | X | X |
TT | Metal Coil Surface Coating | X | X | X |
UU | Asphalt Processing and Asphalt Roofing Manufacture | X | X | X |
VV | Equipment Leaks of VOC in the Synthetic Organic Industry Chemicals Manufacturing | X | X | X |
VVa | Equipment Leaks of VOC in the Synthetic Organic Industry for Which Construction, Reconstruction, or Chemicals Manufacturing Modification Commenced After November 7, 2006 |  |  |  | X
WW | Beverage Can Surface Coating Industry | X | X | X |
XX | Bulk Gasoline Terminals |  |  |  |
AAA | New Residential Wood Heaters | X | X | X | X
BBB | Rubber Tire Manufacturing Industry | X | X | X |
CCC | (Reserved) |  |  |  |
DDD | Volatile Organic Compounds (VOC) Emissions from the Polymer Manufacturing Industry | X | X |  |
EEE | (Reserved) |  |  |  |
FFF | Flexible Vinyl and Urethane Coating and Printing | X | X | X |
GGG | Equipment Leaks of VOC in Petroleum Refineries | X | X | X |
GGGa | Equipment Leaks of VOC in Petroleum Refineries for Which Construction, Reconstruction, or Modification Commenced After November 7, 2006 |  |  |  | X
HHH | Synthetic Fiber Production Facilities | X | X | X |
III | Volatile Organic Compound (VOC) Emissions From the Synthetic Organic Chemical Manufacturing Industry (SOCMI) Air Oxidation Unit Processes | X | X |  |
JJJ | Petroleum Dry Cleaners | X | X | X |
KKK | Equipment Leaks of VOC From Onshore Natural Gas Processing Plants | X | X | X |
LLL | Onshore Natural Gas Processing: SO2 Emissions | X | X | X |
MMM | (Reserved) |  |  |  |
NNN | Volatile Organic Compound (VOC) Emissions From Synthetic Organic Chemical Manufacturing Industry (SOCMI) Distillation Operations | X | X |  |
OOO | Nonmetallic Mineral Processing Plants | X | X | X | X
PPP | Wool Fiberglass Insulation Manufacturing Plants | X | X | X |
QQQ | VOC Emissions From Petroleum Refinery Wastewater Systems | X | X | X |
RRR | Volatile Organic Compound Emissions from Synthetic Organic Chemical Manufacturing Industry (SOCMI) Reactor Processes | X | X | X |
SSS | Magnetic Tape Coating Facilities | X | X | X |
TTT | Industrial Surface Coating: Surface Coating of Plastic Parts for Business Machines | X | X | X |
UUU | Calciners and Dryers in Mineral Industries | X | X | X | X
VVV | Polymeric Coating of Supporting Substrates Facilities | X | X | X | X
WWW | Municipal Solid Waste Landfills | X | X | X | X
AAAA | Small Municipal Waste Combustion Units for Which Construction is Commenced After August 30, 1999 or for Which Modification or Reconstruction is Commended After June 6, 2001 | X |  |  | X
CCCC | Commercial and Industrial Solid Waste Incineration Units for Which Construction Is Commenced After November 30, 1999 or for Which Modification or Reconstruction Is Commenced on or After June 1, 2001 | X |  |  | X
EEEE | Other Solid Waste Incineration Units for Which Construction is Commenced After December 9, 2004, or for Which Modification or Reconstruction is Commenced on or After June 16, 2006 | X |  |  | X
GGGG | (Reserved) |  |  |  |
HHHH | (Reserved) |  |  |  |
IIII | Stationary Compression Ignition Internal Combustion Engines | X |  |  | X
JJJJ | Stationary Spark Ignition Internal Combustion Engines | X |  |  | X
KKKK | Stationary Combustion Turbines | X |  |  | X
LLLL | New Sewage Sludge Incineration Units |  |  |  |
OOOO | Crude Oil and Natural Gas Production, Transmission, and Distribution |  |  |  |
QQQQ | Standards of Performance for New Residential Hydronic Heaters and Forced-Air Furnaces | X |  |  |
TTTT | Standards of Performance for Greenhouse Gas Emissions for Electric Generating Units | X |  |  |

* * * * *

(ix) * * *

Table 11 to Paragraph (d)(2)(ix)—Delegation Status for New Source Performance Standards for Tuolumne County APCD, Ventura County APCD, and Yolo-Solano AQMD
| Subpart | Air pollution control agency: Tuolumne County APCD | Air pollution control agency: Ventura County APCD | Air pollution control agency: Yolo- Solano AQMD
A | General Provisions |  | X | X
D | Fossil-Fuel Fired Steam Generators Constructed After August 17, 1971 |  | X | X
Da | Electric Utility Steam Generating Units Constructed After September 18, 1978 |  | X |
Db | Industrial-Commercial-Institutional Steam Generating Units |  | X | X
Dc | Small Industrial-Commercial-Institutional Steam Generating Units |  | X |
E | Incinerators |  | X |
Ea | Municipal Waste Combustors Constructed After December 20, 1989 and On or Before September 20, 1994 |  | X |
Eb | Large Municipal Waste Combustors Constructed After September 20, 1994 |  |  |
Ec | Hospital/Medical/Infectious Waste Incinerators for Which Construction is Commenced After June 20, 1996 |  |  |
F | Portland Cement Plants |  | X |
G | Nitric Acid Plants |  | X |
H | Sulfuric Acid Plant |  | X |
I | Hot Mix Asphalt Facilities |  | X | X
J | Petroleum Refineries |  | X | X
K | Storage Vessels for Petroleum Liquids for Which Construction, Reconstruction, or Modification Commenced After June 11, 1973, and Prior to May 19, 1978 |  | X | X
Ka | Storage Vessels for Petroleum Liquids for Which Construction, Reconstruction, or Modification Commenced After May 18, 1978, and Prior to July 23, 1984 |  | X |
Kb | Volatile Organic Liquid Storage Vessels (Including Petroleum Liquid Storage Vessels) for Which Construction, Reconstruction, or Modification Commenced After July 23, 1984 |  | X |
L | Secondary Lead Smelters |  | X |
M | Secondary Brass and Bronze Production Plants |  | X |
N | Primary Emissions from Basic Oxygen Process Furnaces for Which Construction is Commenced After June 11, 1973 |  | X |
Na | Secondary Emissions from Basic Oxygen Process Steelmaking Facilities for Which Construction is Commenced After January 20, 1983 |  | X |
O | Sewage Treatment Plants |  | X |
P | Primary Copper Smelters |  | X |
Q | Primary Zinc Smelters |  | X |
R | Primary Lead Smelters |  | X |
S | Primary Aluminum Reduction Plants |  | X |
T | Phosphate Fertilizer Industry: Wet Process Phosphoric Acid Plants |  | X |
U | Phosphate Fertilizer Industry: Superphosphoric Acid Plants |  | X |
V | Phosphate Fertilizer Industry: Diammonium Phosphate Plants |  | X |
W | Phosphate Fertilizer Industry: Triple Superphosphate Plants |  | X |
X | Phosphate Fertilizer Industry: Granular Triple Superphosphate Storage Facilities |  | X |
Y | Coal Preparation and Processing Plants |  | X |
Z | Ferroalloy Production Facilities |  | X |
AA | Steel Plants: Electric Arc Furnaces Constructed After October 21, 1974 and On or Before August 17, 1983 |  | X | X
AAa | Steel Plants: Electric Arc Furnaces and Argon-Oxygen Decarburization Vessels Constructed After August 7, 1983 |  | X |
BB | Kraft Pulp Mills |  | X |
CC | Glass Manufacturing Plants |  | X |
DD | Grain Elevators |  | X |
EE | Surface Coating of Metal Furniture |  | X |
FF | (Reserved) |  |  |
GG | Stationary Gas Turbines |  | X |
HH | Lime Manufacturing Plants |  | X |
KK | Lead-Acid Battery Manufacturing Plants |  | X |
LL | Metallic Mineral Processing Plants |  | X |
MM | Automobile and Light Duty Trucks Surface Coating Operations |  | X |
NN | Phosphate Rock Plants |  | X |
PP | Ammonium Sulfate Manufacture |  | X |
QQ | Graphic Arts Industry: Publication Rotogravure Printing |  | X |
RR | Pressure Sensitive Tape and Label Surface Coating Operations |  | X |
SS | Industrial Surface Coating: Large Appliances |  | X |
TT | Metal Coil Surface Coating |  | X |
UU | Asphalt Processing and Asphalt Roofing Manufacture |  | X |
VV | Equipment Leaks of VOC in the Synthetic Organic Industry Chemicals Manufacturing |  | X |
WW | Beverage Can Surface Coating Industry |  | X |
XX | Bulk Gasoline Terminals |  |  |
AAA | New Residential Wood Heaters |  | X |
BBB | Rubber Tire Manufacturing Industry |  | X |
CCC | (Reserved) |  |  |
DDD | Volatile Organic Compounds (VOC) Emissions from the Polymer Manufacturing Industry |  | X |
EEE | (Reserved) |  |  |
FFF | Flexible Vinyl and Urethane Coating and Printing |  | X |
GGG | Equipment Leaks of VOC in Petroleum Refineries |  | X |
GGGa | Equipment Leaks of VOC in Petroleum Refineries for Which Construction, Reconstruction, or Modification Commenced After November 7, 2006 |  |  |
HHH | Synthetic Fiber Production Facilities |  | X |
III | Volatile Organic Compound (VOC) Emissions From the Synthetic Organic Chemical Manufacturing Industry (SOCMI) Air Oxidation Unit Processes |  | X |
JJJ | Petroleum Dry Cleaners |  | X |
KKK | Equipment Leaks of VOC From Onshore Natural Gas Processing Plants |  | X |
LLL | Onshore Natural Gas Processing: SO2 Emissions |  | X |
MMM | (Reserved) |  |  |
NNN | Volatile Organic Compound (VOC) Emissions From Synthetic Organic Chemical Manufacturing Industry (SOCMI) Distillation Operations |  | X |
OOO | Nonmetallic Mineral Processing Plants |  | X | X
PPP | Wool Fiberglass Insulation Manufacturing Plants |  | X |
QQQ | VOC Emissions From Petroleum Refinery Wastewater Systems |  | X |
RRR | Volatile Organic Compound Emissions from Synthetic Organic Chemical Manufacturing Industry (SOCMI) Reactor Processes |  | X |
SSS | Magnetic Tape Coating Facilities |  | X |
TTT | Industrial Surface Coating: Surface Coating of Plastic Parts for Business Machines |  | X |
UUU | Calciners and Dryers in Mineral Industries |  | X |
VVV | Polymeric Coating of Supporting Substrates Facilities |  | X |
WWW | Municipal Solid Waste Landfills | X | X |

* * * * *

[FR Doc. 2022-23977 Filed 11-8-22; 8:45 am]

BILLING CODE 6560-50-P